DEPARTMENT OF ENERGY

Federal Energy Regulatory Commission

[Docket No. AD16-25-000]

Utilization in the Organized Markets of Electric Storage Resources as Transmission Assets Compensated Through Transmission Rates, for Grid Support Services Compensated in Other Ways, and for Multiple Services; Further Supplemental Notice of Technical Conference

As announced in the Notice of Technical Conference issued on September 30, 2016 and the Supplemental Notice of Technical Conference issued on November 1, 2016, the Federal Energy Regulatory Commission (Commission) staff will convene a technical conference on November 9, 2016, at the Commission's offices at 888 First Street NE., Washington, DC 20426 beginning at approximately 10:00 a.m. and ending at approximately 3:00 p.m. (Eastern Time). Commission staff will lead the conference, and Commissioners may attend.

The purpose of the technical conference is to discuss the utilization of electric storage resources as transmission assets compensated through transmission rates, for grid support services that are compensated in other ways, and for multiple services.

This technical conference will be transcribed and webcast. Transcripts of the technical conference will be available for a fee from Ace-Federal Reporters, Inc. at (202) 347-3700. A free webcast of this event will be available through www.ferc.gov. Anyone with internet access who wants to view this event can do so by navigating to the Calendar of Events at www.ferc.gov and locating this event in the Calendar. The event will contain a link to its webcast. The Capitol Connection provides technical support for webcasts and offers the option of listening to the workshop via phone-bridge for a fee. If you have any questions, visit www.CapitolConnection.org or call (703) 993-3100.

Those interested in attending the technical conference or viewing the webcast are encouraged to register at https://www.ferc.gov/whats-new/registration/11-09-16-form.asp.

Commission technical conferences are accessible under section 508 of the Rehabilitation Act of 1973. For accessibility accommodations, please send an email to accessibility@ferc.gov, call (866) 208-3372 (toll free) or (202) 208-8659 (TTY), or send a FAX to (202) 208-2106 with the required accommodations.

While this conference is not for the purpose of discussing specific cases, we note that the discussions at the conference may address matters at issue in the following Commission proceedings that are either pending or within their rehearing period:

| Docket Nos.
Electric Storage Participation in Regions with Organized Wholesale Electric Markets | AD16-20.
ISO New England Inc. | ER17-68.
Indianapolis Power & Light Company v. Midcontinent Independent System Operator, Inc | EL17-8.
New York Independent System Operator, Inc | ER13-102.
New York Independent System Operator, Inc | ER15-2059.
New York Independent System Operator, Inc | ER16-120.
New York Independent System Operator, Inc | ER16-1404.

For more information about this technical conference, please contact:

Rahim Amerkhail (Technical Information)

Office of Energy Policy and Innovation

Federal Energy Regulatory Commission

888 First Street NE.

Washington, DC 20426

(202) 502-8266

rahim.amerkhail@ferc.gov.

Sarah McKinley (Logistical Information)

Office of External Affairs

Federal Energy Regulatory Commission

888 First Street NE.

Washington, DC 20426

(202) 502-8004

sarah.mckinley@ferc.gov.

Heidi Nielsen (Legal Information)

Office of the General Counsel

Federal Energy Regulatory Commission

888 First Street NE.

Washington, DC 20426

(202) 502-8435

heidi.nielsen@ferc.gov.

Dated: November 7, 2016.
Nathaniel J. Davis, Sr.,
Deputy Secretary.

[FR Doc. 2016-27288 Filed 11-10-16; 8:45 am]

BILLING CODE 6717-01-P